DEPARTMENT OF THE INTERIOR

National Park Service

Notice of Inventory Completion: Illinois State Museum, Springfield, IL

AGENCY: National Park Service, Interior.

ACTION: Notice.

Notice is here given in accordance with the Native American Graves Protection and Repatriation Act (NAGPRA), 25 U.S.C. 3003, of the completion of an inventory of human remains in the possession of the Illinois State Museum, Springfield, IL. The human remains were removed from two sites in Randolph County, IL.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by Illinois State Museum professional staff in consultation with representatives of the Citizen Potawatomi Nation, Oklahoma; Forest County Potawatomi Community, Wisconsin; Hannahville Indian Community, Michigan; Ho-Chunk Nation of Wisconsin; Huron Potawatomi, Inc., Michigan; Kickapoo Traditional Tribe of Texas; Kickapoo Tribe of Indians of the Kickapoo Reservation in Kansas; Kickapoo Tribe of Oklahoma; Miami Tribe of Oklahoma; Peoria Tribe of Indians of Oklahoma; Pokagon Band of Potawatomi Indians, Michigan and Indiana; Prairie Band of Potawatomi Nation, Kansas; Sac & Fox Nation of Missouri in Kansas and Nebraska; Sac & Fox Nation, Oklahoma; Sac & Fox Tribe of the Mississippi in Iowa; and Winnebago Tribe of Nebraska.

In the late 1960s, human remains representing a minimum of five individuals were removed from the Waterman site (11R122), Randolph County, IL, by Irvin M. Peithman of Southern Illinois University at Carbondale. The Peithman family donated the human remains to the Fort de Chartres State Historic Site, Illinois Historic Preservation Agency in the early 1980s. In 1988, the Illinois Historic Preservation Agency transferred the human remains to the Illinois State Museum. No known individuals were identified. No associated funerary objects are present.

The morphology of the human remains indicates that the individuals from the Waterman site are clearly Native American. The Waterman site is a historically documented Michigamea Indian village that was occupied between 1753 and 1765. The Michigamea were part of the Illinois Indians who are represented by the present-day Peoria Tribe of Indians of Oklahoma. In 1998, the Illinois State Museum repatriated the remains of 57 individuals and 13,113 associated funerary objects from the Waterman site to the Peoria Tribe of Indians of Oklahoma.

Between 1979 and 1982, human remains representing one individual were removed from the Fort de Chartres III site (11R127), Randolph County, IL, by Dr. Melburn Thurman of the Old Missouri Research Foundation. The human remains were transferred to the Illinois State Museum in 1988. No known individual was identified. No associated funerary objects are present.

Historical evidence and site location indicate that the human remains from the Fort de Chartres III site are clearly Native American. Based on the burial location and the presence of European trade goods at adjacent burial sites, the human remains were likely interred between 1772 and 1832. The Fort de Chartres III site is located 1 mile south of the Waterman site, a historically documented Michigamea Indian village that was occupied between 1753 and 1765. The Michigamea were part of the Illinois Indians who are represented by the present-day Peoria Tribe of Indians of Oklahoma. In 1998, the Illinois State Museum repatriated the remains of 8 individuals and 9,834 associated funerary objects from the Fort de Chartres III site to the Peoria Tribe of Indians of Oklahoma.

Officials of the Illinois State Museum have determined that, pursuant to 25 U.S.C. 3001 (9-10), the human remains described above represent the physical remains of six individuals of Native American ancestry. Officials of the Illinois State Museum also have determined that, pursuant to 25 U.S.C. 3001 (2), there is a relationship of shared group identity that can be reasonably traced between the Native American human remains and the Peoria Tribe of Indians of Oklahoma.

Representatives of any other Indian tribe that believes itself to be culturally affiliated with the human remains should contact Dr. Robert E. Warren, Associate Curator of Anthropology, Illinois State Museum, 1011 East Ash Street, Springfield, IL, telephone (217) 524-7903, before December 31, 2003. Repatriation of the human remains to the Peoria Tribe of Indians of Oklahoma may proceed after that date if no additional claimants come forward.

The Illinois State Museum is responsible for notifying the Citizen Potawatomi Nation, Oklahoma; Forest County Potawatomi Community, Wisconsin; Hannahville Indian Community, Michigan; Ho-Chunk Nation of Wisconsin; Huron Potawatomi, Inc., Michigan; Kickapoo Traditional Tribe of Texas; Kickapoo Tribe of Indians of the Kickapoo Reservation in Kansas; Kickapoo Tribe of Oklahoma; Miami Tribe of Oklahoma; Peoria Tribe of Indians of Oklahoma; Pokagon Band of Potawatomi Indians, Michigan and Indiana; Prairie Band of Potawatomi Nation, Kansas; Sac & Fox Nation of Missouri in Kansas and Nebraska; Sac & Fox Nation, Oklahoma; Sac & Fox Tribe of the Mississippi in Iowa; and Winnebago Tribe of Nebraska that this notice has been published.

Dated: September 22, 2003.
John Robbins,
Assistant Director, Cultural Resources.

[FR Doc. 03-29775 Filed 11-28-03; 8:45 am]

BILLING CODE 4310-50-S